DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by July 1, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address above).

PRT-054555

Applicant: Robert Goins, Kinston, NC.

The applicant requests a permit to import a sport-hunted trophy cheetah (Acinonyx jubatus) trophy from Namibia for the purpose of enhancement of the survival of the species.

PRT-056627

Applicant: Robert Pat Collins, Granbury, TX.

The applicant requests a permit to import the sport-hunted trophy of one male bontebok (Damaliscus pygargus dorcas) culled from a captive herd maintained under the management program of the Republic of South Africa for the purpose of enhancement of the survival of the species.

PRT-056536

Applicant: Charles Cochran, Plano, TX.

The applicant requests a permit to import the sport-hunted trophy of one male bontebok (Damaliscus pygargus dorcas) culled from a captive herd maintained under the management program of the Republic of South Africa for the purpose of enhancement of the survival of the species.

PRT-056562

Applicant: Edwin Dean, Hesperia, MI.

The applicant requests a permit to import the sport-hunted trophy of one male bontebok (Damaliscus pygargus dorcas) culled from a captive herd maintained under the management program of the Republic of South Africa for the purpose of enhancement of the survival of the species.

PRT-056814

Applicant: Lester Wollam, Continental, OH.

The applicant requests a permit to import the sport-hunted trophy of one male bontebok (Damaliscus pygargus dorcas) culled from a captive herd maintained under the management program of the Republic of South Africa for the purpose of enhancement of the survival of the species.

PRT-054030

Applicant: National Zoological Park, Washington, DC.

The applicant requests a permit to import a male captive born maned wolf (Chrysocyon brachyurus) from Criadouro Conservacionista da CBMM, Araxa—Minas Gerais, Brazil for the purpose of enhancement of propagation of the species.

PRT-022729

Applicant: National Marine Fisheries Service/Southwest Region/Pacific Island Area Office, Long Beach, CA.

The applicant requests renewal of a permit to introduce from the high seas samples and/or whole carcasses of loggerhead sea turtle (Caretta caretta), green sea turtle (Chelonia mydas), leatherback sea turtle (Dermochelys coriacea), hawksbill sea turtle (Eretmochelys imbricata), olive Ridley sea turtle (Lepidochelys olivacea), and Kemp's Ridley sea turtle (L. kempii) and amendment of the same permit to include introducing from the high seas samples and/or whole carcass of short-tailed albatross (Diomedea albatrus) for the purpose of enhancement of the species through scientific research. This notice covers activities conducted by the applicant over a five year period.

Marine Mammals

The public is invited to comment on the following application(s) for a permit to conduct certain activities with marine mammals. The application(s) was submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

PRT-056485

Applicant: David Hussey, Cavecreek, AZ.

The applicant requests a permit to import a polar bear (Ursus maritimus) sport hunted from the Southern Beaufort Sea polar bear population in Canada for personal use.

PRT-056483

Applicant: Theodore L. Priem, St. Croix Falls, WI.

The applicant requests a permit to import a polar bear (Ursus maritimus) sport hunted from the Lancaster Sound polar bear population in Canada for personal use.

PRT-056418

Applicant: Stanley Wilczek, Hazleton, PA.

The applicant requests a permit to import a polar bear (Ursus maritimus) sport hunted from the Lancaster Sound polar bear population in Canada for personal use.

PRT-056815

Applicant: William Dodge, Brunswick, ME.

The applicant requests a permit to import a polar bear (Ursus maritimus) sport hunted from the Lancaster Sound polar bear population in Canada for personal use.

PRT-056495

Applicant: John F. Baker, Richboro, PA.

The applicant requests a permit to import a polar bear (Ursus maritimus) sport hunted from the Southern Beaufort Sea polar bear population in Canada for personal use.

The U.S. Fish and Wildlife Service has information collection approval from OMB through March 31, 2004, OMB Control Number 1018-0093. Federal Agencies may not conduct or sponsor and a person is not required to respond to a collection of information unless it displays a current valid OMB control number.

Dated: May 29, 2002.
Monica Farris,
Senior Permit Biologist, Branch of Permits, Division of Management Authority.

[FR Doc. 02-13439 Filed 5-29-02; 8:45 am]

BILLING CODE 4310-55-P